DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 17, 2008.

Interested persons are invited to submit written comments regarding the subject matter of the investigations to the Director, Division of Trade Adjustment Assistance, at the address shown below, not later than November 17, 2008.

The petitions filed in this case are available for inspection at the Office of the Director, Division of Trade Adjustment Assistance, Employment and Training Administration, U.S. Department of Labor, Room C-5311, 200 Constitution Avenue, NW., Washington, DC 20210.

Signed at Washington, DC this 29th day of October 2008.
Erin Fitzgerald,
Director, Division of Trade Adjustment Assistance.

Appendix
[TAA petitions instituted between 10/20/08 and 10/24/08]
TA-W | Subject firm (Petitioners) | Location | Date of institution | Date of petition
64246 | Borg Warner Morse Tech (Wkrs) | Ithaca, NY | 10/20/08 | 10/14/08
64247 | Guilford (Comp) | Fuquay-Varina, NC | 10/20/08 | 10/17/08
64248 | Freudenberg (Comp) | Durham, NC | 10/20/08 | 10/17/08
64249 | Gates Corporation (Comp) | Moncks Corner, SC | 10/20/08 | 10/17/08
64250 | Findlay Industries (Wkrs) | Chesterfield, MO | 10/20/08 | 10/17/08
64251 | Sperian Fall Protection (Wkrs) | Franklin, PA | 10/20/08 | 10/06/08
64252 | Lear Corporation (Union) | Wentzville, MO | 10/21/08 | 10/20/08
64253 | Amkor Technology, Inc. (Comp) | Morrisville, NC | 10/21/08 | 10/16/08
64254 | ITW CIP (State) | Waterbury, CT | 10/21/08 | 10/20/08
64255 | Hoffman/New Yorker, Inc. (Comp) | Dushore, PA | 10/21/08 | 10/17/08
64256 | STMicroelectronics (Comp) | Phoenix, AZ | 10/21/08 | 10/17/08
64257 | Vanguard Furniture Co., Inc. (Wkrs) | Conover, NC | 10/21/08 | 10/01/08
64258 | Irwin Research and Development (Wkrs) | Yakima, WA | 10/21/08 | 10/16/08
64259 | Kim Ro Manufacturing, Inc. (Wkrs) | Trezevant, TN | 10/21/08 | 10/17/08
64260 | Glatfelter's Ohio Operation (USW) | Chillicothe, OH | 10/21/08 | 10/17/08
64261 | Reed Elsevier/Lexis Nexis (Wkrs) | Miamisburg, OH | 10/21/08 | 10/16/08
64262 | Classic Components Corporation (State) | Torrence, CA | 10/22/08 | 09/28/08
64263 | Celanese Emulsions Corporation (Union) | Meredosia, IL | 10/22/08 | 10/09/08
64264 | General Motors Corporation—Pittsburgh Metal Center (UAW) | West Mifflin, PA | 10/22/08 | 10/22/08
64265 | Cooper Crouse-Hinds, Cooper Interconnect (Comp) | LaGrange, NC | 10/22/08 | 10/16/08
64266 | Environmental Business Services/Katun Corporation (State) | Austin, TX | 10/22/08 | 10/21/08
64267 | Stevens Linen Associates, Inc. (01571) | Dudley, MA | 10/22/08 | 10/21/08
64268 | Eagle Ottawa LLC (Comp) | Waterloo, IA | 10/23/08 | 10/22/08
64269 | SD Summit Design, Inc. (State) | Montebello, CA | 10/23/08 | 10/22/08
64270 | Thermo Fisher Scientific, Lab Vision Fremont, Mfg. Dept. (Wkrs) | Fremont, CA | 10/23/08 | 10/22/08
64271 | Knight Colotex (Comp) | Lisbon Falls, ME | 10/23/08 | 10/10/08
64272 | Nielsen Co. (formerly AC Nielsen Co.) (Wkrs) | Fond du Lac, WI | 10/23/08 | 10/21/08
64273 | Century Furniture Casegoods (Comp) | Hickory, NC | 10/24/08 | 10/23/08
64274 | Item-Eyes Apparel (UNITE) | New York, NY | 10/24/08 | 10/23/08
64275 | Reynolds Foil, Inc. (Comp) | Richmond, VA | 10/24/08 | 10/21/08
64276 | American Safety Razor (IUE) | Verona, VA | 10/24/08 | 10/01/08
64277 | Louisiana-Pacific Corporation (State) | Athens, GA | 10/24/08 | 10/23/08
64278 | Purcell Systems (Wkrs) | Spokane Valley, WA | 10/24/08 | 10/13/08

[FR Doc. E8-26532 Filed 11-6-08; 8:45 am]

BILLING CODE 4510-FN-P